DEPARTMENT OF HOMELAND SECURITY

Federal Emergency Management Agency

[Docket ID: FEMA-2022-0013; OMB No. 1660-0061]

Agency Information Collection Activities: Submission for OMB Review; Comment Request; Federal Assistance to Individuals and Households Program

AGENCY: Federal Emergency Management Agency, Department of Homeland Security.

ACTION: 30-Day notice of renewal and request for comments.

SUMMARY: The Federal Emergency Management Agency (FEMA) will submit the information collection abstracted below to the Office of Management and Budget for review and clearance in accordance with the requirements of the Paperwork Reduction Act of 1995. This notice seeks comments concerning FEMA's Individuals and Households Program, providing financial assistance to individuals whose primary residences were destroyed as a result of a Presidentially-declared disaster.

DATES: Comments must be submitted on or before September 26, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Brian Thompson, Supervisory Program Specialist, FEMA, Recovery Directorate by telephone at (540) 686-3602 or email at Brian.Thompson6@fema.dhs.gov.

SUPPLEMENTARY INFORMATION: The Robert T. Stafford Disaster Relief and Emergency Assistance Act (Stafford Act), Public Law 93-288, as amended, is the legal basis for the Federal Emergency Management Agency (FEMA) to provide financial assistance and services to individuals applying for disaster assistance benefits in the event of a federally declared disaster. Regulations in 44 CFR 206.110—Federal Assistance to Individuals and Households (IHP) implements the policy and procedures set forth in section 408 of the Stafford Act, 42 U.S.C. 5174, as amended. This program provides financial assistance and, if necessary, direct assistance to eligible individuals and households who, as a direct result of a major disaster or emergency, have uninsured or under-insured, necessary expenses and serious needs, and are unable to meet such expenses or needs through other means.

This proposed information collection previously published in the Federal Register on April 13, 2022, at 87 FR 21894 with a 60 day public comment period. FEMA received one comment.

Comment: “There needs to be a limit on how long you allow those displaced to find new arrangements. The rebuilding time and building in a known flood zone simply does not make sense. The new development on the shore of an ocean and on the banks of rivers that will have new heights makes no sense at all. [FEMA] needs to look ahead as well as behind and prevent new development in flood zones.”

FEMA Response: An eligible applicant may receive Continued Temporary Housing Assistance based on their need and generally only when adequate, alternate housing is not available, or when the applicant's permanent housing plan has not been fulfilled through no fault of the applicant. While FEMA may provide financial temporary housing assistance up to 18 months, i.e., the end of the period of assistance, FEMA generally expects that pre-disaster renters will use their initial Rental Assistance to obtain permanent housing and that all recipients of financial assistance will obtain and occupy permanent housing at the earliest possible time. Regardless, in order to receive Continued Temporary Housing Assistance, applicants must submit to FEMA documentation, showing they have a temporary housing need, and must continue to work toward obtaining permanent housing to remain eligible for Continued Temporary Housing Assistance.

With regard to flood zones and coastal areas, the National Flood Insurance Reform Act and FEMA regulations require applicants who receive Federal financial assistance to purchase flood insurance for future flood damage to any insurable property for acquisition or construction purposes. This requirement applies only to real and personal property that is, or will be, in a designated Special Flood Hazard Area (SFHA) and can be insured under the National Flood Insurance Program (NFIP). Applicants who live in a designated SFHA and receive Individuals and Households Program (IHP) assistance for Home Repair, Home Replacement, Personal Property, or Permanent Housing Construction (PHC) must obtain and maintain flood insurance coverage for at least the amount of disaster assistance they receive from FEMA for NFIP-insurable real or personal property items. Applicants may satisfy the insurance requirement by purchasing private insurance or a policy through the NFIP. Applicants who do not obtain and maintain flood insurance will be ineligible for IHP assistance for flood-damaged real or personal property in future disasters with flood-related damage.

The NFIP was created to reduce the impact of flooding on private and public structures by providing affordable insurance to property owners and by encouraging communities to adopt and enforce floodplain management regulations.

Further, the Coastal Barrier Resources Act (CBRA) protects coastal areas from development by limiting Federal financial assistance for development-related activities in designated Coastal Barrier Resources System (CBRS) areas. CBRS areas are coastal areas that protect valuable habitat for fish and wildlife and are subject to wave, wind, and tidal forces, and are mapped by the U.S. Fish and Wildlife Service. The CBRS contains two types of coastal barrier areas: CBRS Units and otherwise protected areas (OPAs). An eligible applicant whose pre-disaster primary residence is located within a CBRS Unit may not be considered for Home Repair Assistance, Home Replacement Assistance, PHC, or certain types of Other Needs Assistance. Whereas an eligible applicant whose pre-disaster residence is located within an OPA may be considered for all forms of IHP assistance; however, the residence is also subject to NFIRA requirements for sanctioned communities and SFHAs, if applicable.

The purpose of this notice is to notify the public that FEMA will submit the information collection abstracted below to the Office of Management and Budget for review and clearance.

Collection of Information

Title: Federal Assistance to Individuals and Households Program.

Type of Information Collection: Extension, without change, of a currently approved information collection.

OMB Number: 1660-0061.

FEMA Forms: FEMA Form FF-104-FY-21-114 (formerly 010-0-11), Individuals and Households Program (IHP)—Other Needs Assistance Administrative Option Selection; Development of State/Tribal Administrative Plan (SAP) for Other Needs Provision of IHP; FEMA Form FF-104-FY-21-115 (English) (formerly 010-0-12), Individuals and Households Program Application for Continued Temporary Housing Assistance; FEMA Form FF-104-FY-21-115-A (Spanish) (formerly 010-0-12S), Programa de Individuos y Familias Solicitud Para Continuar La Asistencia de Vivienda Temporera; Request for Approval of Late Registration; Appeal of Program Decision; FEMA Form FF-104-FY-21-116 (English) (formerly 009-0-95), Request for Advance Disaster Assistance; FEMA Form FF-104-FY-21-116-A (Spanish) (formerly 009-0-95S), Solicitud de Adelanto de la Asistencia por Desastre; FEMA Form FF-104-FY-21-117 (English) (formerly 009-0-96), Request to Stop Payment and Reissue Disaster Assistance Check; FEMA Form FF-104-FY-21-117-A (Spanish) (formerly 009-0-96S), Solicitud para Detener el Pago y Reemitir el Cheque de Asistencia por Desastre; FEMA Form FF-104-FY-21-118—(English) (formerly 140-003d-1S), Authorization for the Release of Information Under the Privacy Act; FEMA Form FF-104-FY-21-118-A—(Spanish) (formerly 140-003d-1S), Autorización para la Divulgación de Información bajo el Acta de Privacidad.

Abstract: This information collection provides disaster survivors the opportunity to request approval of late applications, continued temporary housing assistance, request advance disaster assistance, stop payments not received in order to be reissued funds, and to appeal program decisions. This collection also allows for the establishment of an annual agreement between FEMA and states, territories, and tribal governments regarding how the Other Needs Assistance provision of IHP will be administered: by FEMA, by the state, territory, or tribal government, or jointly. This collection allows survivors to provide additional information after the initial disaster assistance registration period in support of their applications for assistance from FEMA's IHP. If the information in this collection is not collected, a delay in assistance provided to disaster survivors would occur.

Affected Public: Individuals or households, State, local or Tribal government.

Estimated Number of Respondents: 67,785.

Estimated Number of Responses: 112,089.

Estimated Total Annual Burden Hours: 98,609.

Estimated Total Annual Respondent Cost: $3,906,709.

Estimated Respondents' Operation and Maintenance Costs: $0.

Estimated Respondents' Capital and Start-Up Costs: $0.

Estimated Total Annual Cost to the Federal Government: $1,109,953.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-18459 Filed 8-25-22; 8:45 am]

BILLING CODE 9111-24-P